DEPARTMENT OF THE INTERIOR

National Park Service

Special Flight Rules Area in the Vicinity of Grand Canyon National Park, Draft Environmental Impact Statement, Grand Canyon National Park, AZ

AGENCY: National Park Service, Department of the Interior.

ACTION: Notice of Availability of the Draft Environmental Impact Statement for the Special Flight Rules Area in the Vicinity of Grand Canyon National Park, Grand Canyon National Park.

SUMMARY: Pursuant to the National Environmental Policy Act of 1969, 42 U.S.C. 4332(2)(C), the National Park Service announces the availability of the Draft Environmental Impact Statement for the Special Flight Rules Area in the Vicinity of Grand Canyon National Park for Grand Canyon National Park, Arizona.

The four alternatives in the Draft Environmental Impact Statement (DEIS) that are being considered include:

Alternative A Current Condition: Key elements are corridors open year round, annual allocation cap of 93,971, and no quiet technology incentive. Current tours for helicopters and fixed wing remain the same.

Alternative E Alternating Seasonal Use: Key elements are corridors alternating on a seasonal basis, daily allocation cap of 364 for air tour and air tour related, and conversion to quiet technology aircraft.

Alternative F Modified Current Condition: Key elements are similar to current condition except for one way east bound tour for quiet technology, elimination of Nankoweap loop, incentives for quiet technology aircraft, and seasonal shift for Dragon corridor.

NPS Preferred Alternative: Key elements are short-loop corridors alternate on a seasonal basis, four-year phase in of long-loop for quiet technology aircraft, annual allocation cap of 65,000 air tour and related operations and a daily cap of 364 for commercial air tours, increased altitudes for some areas and flight free zones, and conversion of quiet technology within ten years.

DATES: The National Park Service will accept comments on the Draft Environmental Impact Statement from the public for 120 days after the date the Environmental Protection Agency publishes this Notice of Availability. Public meetings will be held within the 120-day public comment period in Phoenix, AZ; Flagstaff, AZ; Grand Canyon National Park, AZ; Las Vegas, NV; and Salt Lake City, UT; with specific dates, times, and venue locations to be determined. Updates will be announced separately in a press release, and on the NPS's Planning, Environment and Public Comment (PEPC) Web site at http://www.parkplanning.pepc.gov/grca.

ADDRESSES: Information will be available for public review and comment online at http://parkplanning.nps.gov/grca, and at Grand Canyon National Park in the Office of the Superintendent, PO Box 129, Grand Canyon, Arizona 86023, 928-638-7945, and in the Office of Planning and Compliance, Mary Killeen, PO Box 129, Grand Canyon, Arizona 86023, 928-638-7885.

FOR FURTHER INFORMATION CONTACT: Mary Killeen, PO Box 129, Grand Canyon, Arizona 86023, 928-638-7885, Mary_Killeen@nps.gov.

SUPPLEMENTARY INFORMATION: If you wish to comment, you may submit your comments by any one of several methods. The preferred method is to comment on the Planning Environment and Public Comment Web site (PEPC) via the Internet at http://parkplanning.nps.gov/grca. You may also mail comments to the Office of Planning and Compliance, PO Box 129, Grand Canyon, Arizona 86023. Finally, you may hand-deliver comments to Superintendent, 1 Village Loop, Park Headquarters, Grand Canyon National Park, Grand Canyon, Arizona 86023. Before including your address, phone number, e-mail address, or other personal identifying information in your comment, you should be aware that your entire comment—including your personal identifying information—may be made publicly available at any time. While you can ask us in your comment to withhold your personal identifying information from public review, we cannot guarantee that we will be able to do so.

Dated: June 15, 2010.
Mary Gibson-Scott,
Acting Regional Director, Intermountain Region, National Park Service.

Editorial Note: This document was received in the Office of the Federal Register on February 1, 2011.

[FR Doc. 2011-2521 Filed 2-3-11; 8:45 am]

BILLING CODE 4312-ED-P